DEPARTMENT OF HEALTH AND HUMAN SERVICES

Administration for Community Living

Availability of Program Application Instructions for MIPPA Program Funds

AGENCY: Administration for Community Living, HHS.

ACTION: Notice.

Title: Medicare Improvements for Patients and Providers Act: State Applications for Medicare Low-Income Benefit Programs Enrollment Outreach and Assistance.

Announcement Type: Initial.

Statutory Authority: 42 U.S.C. 1395b-3 note.

Catalog of Federal Domestic Assistance (CFDA) Number: 93.071.

DATES: The deadline date for the submission of MIPPA Program State Plans is 11:59 p.m. (ET) on July 8, 2024.

SUPPLEMENTARY INFORMATION:

Funding Opportunity Description

The Medicare Improvement for Patients and Providers Act (MIPPA) program supports states and tribes through grants to provide outreach and assistance to Medicare beneficiaries with limited incomes and assets. MIPPA state grantees help educate beneficiaries about the Low-Income Subsidy (LIS) program for Medicare Part D, Medicare Savings Programs (MSPs), and Medicare Preventive Services while also providing one-on-one assistance to eligible Medicare beneficiaries to help them apply for benefit programs that help lower the costs of their Medicare premiums and deductibles. These funds will allow agencies to provide enhanced outreach to eligible Medicare beneficiaries regarding their preventive, wellness, and limited income benefits; application assistance to individuals who may be eligible for LIS or MSPs; and outreach activities aimed at preventing disease and promoting wellness.

Applicant plans should go above and beyond those regular activities planned in response to other funding sources. ACL will accept only one application for each Priority Area per state. If an agency is eligible for more than one MIPPA Priority Area, the agency may combine their responses into one comprehensive application.

Eligibility Criteria and Other Requirements. MIPPA state funding is limited to state agencies by Priority Area:

• Priority Area 1—State Health Insurance Assistance Program (SHIP): SHIP grant recipients or (SHIP-designated state agencies)

• Priority Area 2—Area Agencies on Aging (AAAs): State Units on Aging (SUA) (or SUA-designated state agencies)

• Priority Area 3—Aging and Disability Resource Centers (ADRCs): Agencies that are established ADRCs (or designated state agency serving as the No Wrong Door lead)

I. Award Information

1. Funding Instrument Type

These awards will be made in the form of cooperative agreements to agencies for each MIPPA Priority Area:

Priority Area 1—SHIP: Grants to state agencies (State Units on Aging or State Departments of Insurance) that administer the SHIP to provide enhanced outreach to eligible Medicare beneficiaries regarding their preventive, wellness, and limited income benefits; application assistance to individuals who may be eligible for LIS or MSPs; and outreach activities aimed at preventing disease and promoting wellness.

Priority Area 2—AAA: Grants to state agencies for AAA programs to provide enhanced outreach to eligible Medicare beneficiaries regarding their preventive, wellness, and limited income benefits; application assistance to individuals who may be eligible for LIS or MSPs; and outreach activities aimed at preventing disease and promoting wellness.

Priority Area 3—ADRC: Aging and Disability Resource Center Programs (ADRC): Grants to agencies that are established ADRCs to provide outreach regarding Medicare Part D benefits related to LIS and MSPs and conduct outreach activities aimed at preventing disease and promoting wellness.

2. Anticipated Total Priority Area Funding

ACL intends to make available, under this program announcement, grant awards for the three MIPPA Priority Areas. Funding will be distributed through a formula as identified in statute. ACL will fund total project periods of up to one year contingent upon availability of federal funds.

• Priority Area 1—SHIP: $16.5 million in FY 2024

• Priority Area 2—AAA: $17.9 million in FY 2024

• Priority Area 3—ADRC: $9.8 million in FY 2024

II. Eligibility Criteria and Other Requirements

1. Eligible entities for this award are state agencies that administer the following:

• Priority Area 1—SHIP: Only existing SHIP grant recipients or (SHIP-designated state agencies) are eligible to apply.

• Priority Area 2—AAA: Only State Units on Aging (SUA) (or SUA-designated state agencies) are eligible to apply.

• Priority Area 3—ADRC: Only agencies that are established ADRCs (or designated state agency serving as the No Wrong Door lead) are eligible to apply.

Eligibility may change if future funding is available.

2. No Match or Cost Sharing is required.

3. Unique Entry ID Number

Unique Entity ID: All grant applicants must obtain and keep current a Unique Entity ID (UEI). On April 4, 2022, the unique entity identifier used across the federal government changed from the DUNS Number to the Unique Entity ID (generated by SAM.gov). The Unique Entity ID is a 12-character alphanumeric ID assigned to an entity by SAM.gov. The UEI is viewable in your SAM.gov entity registration record.

4. Intergovernmental Review

Executive Order 12372, Intergovernmental Review of Federal Programs, is not applicable to these grant applications.

III. Submission Information

1. Application Kit/Program Instructions are available at www.grantsolutions.gov. Instructions for completing the application kit will be available on the site.

2. Submission Dates and Times.

To receive consideration, applications must be submitted by 11:59 p.m. (ET) on July 8, 2024, through www.GrantSolutions.gov.

IV. Agency Contact

Direct inquiries regarding programmatic issues to: Margaret Flowers, Phone: 202.795.7315, Email: Margaret.Flowers@acl.hhs.gov.

Dated: May 5, 2024.
Alison Barkoff,
Principal Deputy Administrator for the Administration for Community Living, performing the delegable duties of the Administrator and the Assistant Secretary for Aging.

[FR Doc. 2024-10126 Filed 5-8-24; 8:45 am]

BILLING CODE 4154-01-P